DEPARTMENT OF COMMERCE

Foreign-Trade Zones Board

[Order No. 1896]

Designation of New Grantee; Foreign Trade Zone 104, Savannah, Georgia

Pursuant to its authority under the Foreign-Trade Zones Act of June 18, 1934, as amended (19 U.S.C. 81a-81u), and the Foreign-Trade Zones Board Regulations (15 CFR part 400), the Foreign-Trade Zones Board (the Board) adopts the following Order:

The Foreign-Trade Zones (FTZ) Board (the Board) has considered the application (docketed 02/15/13) submitted by the Savannah Airport Commission, grantee of FTZ 104, Savannah, Georgia, requesting reissuance of the grant of authority for said zone to the World Trade Center Savannah, LLC, which has accepted such reissuance subject to approval by the FTZ Board. Upon review, the Board finds that the requirements of the FTZ Act and the Board's regulations are satisfied, and that the proposal is in the public interest.

Therefore, the Board approves the application and recognizes the World Trade Center Savannah, LLC as the new grantee for Foreign-Trade Zone 104, subject to the FTZ Act and the Board's regulations, including Section 400.13.

Signed at Washington, DC, this 11th day of April 2013.
Paul Piquado,
Assistant Secretary of Commerce for Import Administration, Alternate Chairman, Foreign-Trade Zones Board.
Attest:
Andrew McGilvray,
Executive Secretary.

[FR Doc. 2013-09254 Filed 4-18-13; 8:45 am]

BILLING CODE P